DEPARTMENT OF DEFENSE

Department of the Air Force

[Docket ID: USAF-2011-0016]

Privacy Act of 1974; System of Records

AGENCY: Department of the Air Force, DoD.

ACTION: Notice to Add a System of Records.

SUMMARY: The Department of the Air Force proposes to add a system of records to its inventory of record systems subject to the Privacy Act of 1974 (5 U.S.C. 552a), as amended.

DATES: The proposed action will be effective on July 18, 2011 unless comments are received that would result in a contrary determination.

ADDRESSES: You may submit comments, identified by dock number and/RIN number and title, by any of the following methods:

* Federal Rulemaking Portal: http://www.regulations.gov Follow the instructions for submitting comments.

* Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information

FOR FURTHER INFORMATION CONTACT: Mr. Charles J. Shedrick, Department of the Air Force Privacy Office, Air Force Privacy Act Office, Office of Warfighting Integration and Chief Information officer, ATTN: SAF/XCPPI, 1800 Air Force Pentagon, Washington DC 20330-1800, or by phone at 703-696-6488.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, were submitted on June 8, 2011 to the House Committee on Oversight and Government Reform, the Senate Committee on Homeland Security and Governmental Affairs, and the Office of Management and Budget (OMB) pursuant to paragraph 4c of Appendix I to OMB Circular No. A-130, “Federal Agency Responsibilities for Maintaining Records about Individuals,” dated February 8, 1996, (February 20, 1996, 61 FR 6427).

Dated: June 8, 2011.
Aaron Siegel,
Alternate OSD Federal Register Liaison Officer, Department of Defense.

F036 AFMC L

System name:

Air Force Integrated Personnel and Pay System (AF-IPPS).

System location:

Command, Control, Communications and Computers Enterprise Integration Facility (CEIF), 15 Elgin St., Hanscom Air Force Base, MA 01731-3000.

Categories of individuals covered by the system:

Active Duty Air Force, Air Force Reserve, and Air National Guard personnel.

Categories of records in the system:

Personal Information: Individual's name, rank/grade, address, date of birth, eye color, height, weight, place of birth, Social Security Number (SSN), and similar personal identifiers for beneficiary/dependant purposes; driver's license number, security clearance level, office location, assigned user name and security questions, local and home of record addresses, phone numbers and emergency contact information.

Personnel Information: Evaluation and review history, enrollment, participation, status and outcome information for personnel programs, service qualification and performance measures, types of orders, accomplishments, skills and competencies, career preferences, contract information related to accession and Oath of Office, enlistment and re-enlistment, and separation information, benefits eligibility, enrollment, designations and status information, Uniform Code of Military Justice (UCMJ) actions summarizing court martial, non-judicial punishments, and similar or related documents. Circumstances of an incident the member was involved in and whether he or she is in an injured, wounded, seriously wounded, or ill duty status from the incident.

Duty related information: Duty station, employment and job related information and history, deployment information, work title, work address and related work contact information (e.g., phone and fax numbers, E-mail address), supervisor's name and related contact information.

Education and training: Graduation dates and locations, highest level of education, other education, training and school information including courses and training completion dates.

Pay Entitlement and Allowances: Pay information including earnings and allowances, additional pay (bonuses, special, and incentive pays), payroll computation, balances and history with associated accounting elements, leave balances and leave history.

Deductions from Pay: Tax information (federal, state and local) based on withholding options, payroll deductions, garnishments, savings bond information including designated owner, deductions, and purchase dates, thrift savings plan participation.

Other pay-related information: Direct deposit information including financial institution name, routing number, and account information.

Authority for maintenance of the system:

10 U.S.C. 113 note, Secretary of Defense; 10 U.S.C. 8013, Secretary of the Air Force; 37 U.S.C Pay and Allowances of the Uniformed Services; 10 U.S.C., Armed Forces; Under Secretary of Defense for Personnel and Readiness; E.O. 9397 (SSN), as amended.

Purpose(s):

The Air Force Integrated Personnel and Pay System (AF-IPPS) fully integrates military personnel and pay capabilities for all Active Duty Air Force, Air National Guard, and Air Force Reserves. The system provides a single record of service for each officer/enlisted member and will provide Combatant Commanders real-time accurate force strength and readiness, better tracking of personnel into and out of theaters of operations, enhanced mission planning and support. This single record of service and will become the Air Force's authoritative source of data used to populate the Department of Defense's data bases via the Enterprise Information Web (EIW). AF-IPPS will also allow Air Force Manpower and Personnel office to be aligned with the Air Force's strategic vision and provide a solution with the adaptability to effectively manage Air Force personnel in operational concepts of mobilization, activation, contingency operations, requirements, and assignment actions.

In addition to those disclosures generally permitted under 5 U.S.C. 552a(b) of the Privacy Act of 1974, these records contained therein may specifically be disclosed outside the Department of Defense (DoD) as a routine use pursuant to 5 U.S.C. 552a(b)(3) as follows:

To officials and employees of the Department of Health and Human Services, and Selective Service Administration in the performance of their official duties related to eligibility, notification, and assistance in obtaining benefits for which members, former members or retiree may be eligible.

To officials and employees of the Department of Veterans Affairs in the performance of their official duties related to approved research projects, and for processing and adjudicating claims, determining eligibility, notification, and assistance in obtaining benefits and medical care for which members, former members, retiree and family members/annuitants may be eligible. To the Department of Veterans Affairs to provide information regarding a service-member's record or family member for the purposes of supporting eligibility processing for the Service-member's Group Life Insurance program.

To state and local agencies in the performance of their official duties related to verification of status for determination of eligibility for Veterans bonuses and other benefits and entitlements.

To officials and employees of the American Red Cross in the performance of their duties relating to the assistance of the members and their dependents and relatives, or related to assistance previously furnished such individuals, without regard to whether the individual assisted or his/her sponsor continues to be a member of the Military Service. Access will be limited to those portions of the member's record required to effectively assist the member.

To the U.S. Citizenship and Immigration Services for use in making alien admission and naturalization inquiries. To the Social Security Administration to obtain or verify Social Security Numbers or to substantiate applicant's credit for social security compensation.

To officials and employees of the Office of the Sergeant at Arms of the United States House of Representatives in the performance of their official duties related to the verification of the active duty military service of Members of Congress. Access is limited to those portions of the member's record required to verify time in service.

To the widow or widower, dependent, or next-of-kin of deceased members to settle the affairs of the deceased member. The individuals will have to verify relationship by providing a birth certificate, marriage license, death certificate, or court document as requested/required to prove identity.

To governmental agencies for the conduct of computer matching agreements for the purpose(s) of determining eligibility for Federal benefit programs, to determine compliance with benefit program requirements and to recover improper payments or delinquent debts under a federal benefit program. To Federal and state licensing authorities and civilian certification boards, committees and/or ecclesiastical endorsing organizations for the purposes of professional credentialing (licensing and certification) of lawyers, chaplains and health professionals.

To Federal agencies such as the National Academy of Sciences, for the purposes of conducting personnel and/or health-related research in the interest of the Federal government and the public. When not considered mandatory, the names and other identifying data will be eliminated from records used for such research studies.

To the officials and employees of the Department of Labor in the performance of their official duties related to employment and compensation.

Note: Disclosure to consumer reporting agencies.

Disclosures pursuant to 5 U.S.C. 552a(b)(12) may be made from this system to `consumer reporting agencies' as defined in the Fair Credit Reporting Act (14 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

The disclosure is limited to information necessary to establish the identity of the individual, including name, address, and taxpayer identification number (Social Security Number (SSN)); the amount, status and history of the claim, and the agency or program under which the claim arose for the sole purpose of allowing the consumer reporting agency to prepare a commercial credit report.

The DoD “Blanket Routine Uses” set forth at the beginning of the Air Force's compilation of the System of Records Notices apply to this system.

Policies and practices for storing, retrieving, accessing, retaining, and disposing of records in the system:

Storage:

Electronic storage media.

Retrievability:

Individual's name, Social Security Number (SSN), and date of birth.

Safeguards:

Physical entry will be restricted by the use of locks, guards, and will be accessible only to authorized personnel with a need-to-know. Access to personal data will be limited to person(s) responsible for maintaining and servicing AF-IPPS data in performance of their official duties and who are properly trained, screened and cleared for a need-to-know. Access to personal data will be further restricted by encryption and the use of Common Access Card (CAC) and/or strong password, which are changed periodically according to DoD and Air Force policies.

Retention and disposal:

Those records designated as temporary in the prescribing directive remain in the records until their obsolescence (superseded, member terminates status or retires) when they are removed and provided to the individual.

Unfavorable communications in the Open Systems Research Group (OSRG) are transferred to the Air Reserve Component and retained for one year following an officer's termination of status or destroyed if the officer retires or dies.

Those documents designated as permanent remain in the military personnel records system permanently and are retired with the master personnel record group.

System manager(s) and address:

Program Director, AFMC/ESC/HIS/AF-IPPS, Bldg 1102C, 3rd Floor 29 Randolph Rd., Hanscom AFB, MA 01731-3000.

Notification procedure:

Individuals seeking to determine whether this system of records contains information on themselves should address written inquiries to Program Director, AFMC/ESC/HIS/AF-IPPS, Bldg 1102C, 29 Randolph Rd., Hanscom AFB, MA 01731-3000.

For verification purposes, individuals should provide their full name, Social Security Number (SSN), any details which may assist in locating records, and their signature.

In addition, the requester must provide a notarized statement or an unsworn declaration made in accordance with 28 U.S.C. 1746, in the following format:

If executed outside the United States:

‘I declare (or certify, verify, or state) under penalty of perjury under the laws of the United State of America that the foregoing is true and correct. Executed on (date). (Signature)'. If executed within the United States, its territories, possessions, or commonwealths: ‘I declare (or certify, verify, or state) under penalty of perjury that the foregoing is true and correct. Executed on (date). (Signature)'.

Record access procedures:

Individuals seeking access to information about themselves contained in this system of records should address written inquiries to Air Force Records—Air Force Personnel Center, HQ AFPC/DPSSRP, 550 C Street West, Suite 19, Randolph AFB, TX 78150-4721.

For verification purposes, individuals should provide their full name, Social Security Number (SSN), any details which may assist in locating records, and their signature.

In addition, the requester must provide a notarized statement or an unsworn declaration made in accordance with 28 U.S.C. 1746, in the following format:

If executed outside the United States:

‘I declare (or certify, verify, or state) under penalty of perjury under the laws of the United States of America that the foregoing is true and correct. Executed on (date). (Signature)'. If executed within the United States, its territories, possessions, or commonwealths: `I declare (or certify, verify, or state) under penalty of perjury that the foregoing is true and correct. Executed on (date). (Signature)'.

Contesting record procedures:

The Air Force rules for accessing records, and for contesting contents and appealing initial agency determinations are published in Air Force Instruction 37-132; 32 CFR Part 806b; or may be obtained from the system manager.

Record source categories:

Data contained in this system is collected from the individuals and current Air Force Human Resource Offices and integrated pay systems.

Exemptions claimed for the system:

None.

[FR Doc. 2011-14940 Filed 6-15-11; 8:45 am]

BILLING CODE 5001-06-P